DEPARTMENT OF THE INTERIOR

Bureau of Indian Affairs

[256A2100DD/AAKC001030/A0A501010.999900]

Mission Valley Power Project, Montana—Power Rate Adjustment

AGENCY: Bureau of Indian Affairs, Interior.

ACTION: Notice.

SUMMARY: The Bureau of Indian Affairs (BIA) has adjusted its electric power rates for the Mission Valley Power Project (MVP).

DATES: The 2025 rate adjustment will be effective March 1, 2025. The 2026 rate adjustment will be effective March 1, 2026.

FOR FURTHER INFORMATION CONTACT: For details about MVP, please contact Shane R. Hendrickson, Superintendent, Bureau of Indian Affairs, P.O. Box 40, Pablo, Montana 59855, (406) 675-2700, Ext 1301. Individuals in the United States who are deaf, deafblind, hard of hearing, or have a speech disability may dial 711 (TTY, TDD, or TeleBraille) to access telecommunications relay services.

SUPPLEMENTARY INFORMATION: A Notice of Proposed Rate Adjustment was published in the Federal Register on November 14, 2024 (89 FR 90032) to propose adjustments to the electric power rates at MVP. The public and interested parties were provided an opportunity to submit written comments during the 30-day period that ended December 16, 2024.

Did BIA defer or change any proposed rate increases?

Yes. BIA will not implement the proposed 2024 rates due to procedural delays. The final 2025 and 2026 rates will be implemented as proposed.

Did BIA receive any comments on the proposed electric power rate adjustments?

No. BIA did not receive any comments on the proposed electric power rate adjustments.

Does this notice affect me?

This notice affects you if we provide you electric service. MVP is a federally-owned power utility, operated and maintained by the Confederated Salish and Kootenai Tribes through a contract pursuant to the Indian Self-Determination and Education Assistance Act of 1975, Public Law 93-638, 25 U.S.C. 5301 et seq. (formerly codified at 25 U.S.C. 450 et seq.). MVP provides service to customers located within the Flathead Indian Reservation and to areas in Flathead, Lake, Missoula, and Sanders counties in Montana. MVP provides power for residential, governmental, irrigation, commercial, and industrial uses.

What authorizes you to issue this notice?

Our authority to issue this notice is vested in the Secretary of the Interior by 5 U.S.C. 301; 25 U.S.C. 13; 25 U.S.C. 385c; Act of March 7, 1928 (45 Stat. 212-213), as amended; Act of May 25, 1948, Public Law 554 (62 Stat. 269-273), as amended; Act of August 31, 1951 (65 Stat. 248); Act of December 23, 1981, section 112 (95 Stat. 1404). The Secretary has in turn delegated this authority to the Assistant Secretary—Indian Affairs under part 209, chapter 8.1A, of the Department of the Interior's Departmental Manual.

What electric power rates are adjusted by this notice?

The rate table below contains the present and final 2025 and 2026 electric power rates for MVP. An asterisk immediately following the rate category notes where the rate categories are adjusted from the present rate.

Rate category | Present rate ($) | Final 2025 rate ($) | Final 2026 rate ($)
Residential (See Note #1)
Basic Charge per month * | $17.50 | $23.50 | $27.00
Basic Charge (Pre-Pay Meters) * | 21.00 | 28.20 | 32.40
Basic Charge (Net Meters) * | 20.00 | 28.50 | 32.00
Energy Charge:
Each kilowatt-hour between 0-1,000 * | 0.0812 | 0.0880 | 0.0901
Each kilowatt-hour between 1,001-2,000 * | 0.0908 | 0.0983 | 0.1007
Each kilowatt-hour over 2,000 * | 0.1126 | 0.1219 | 0.1249
Demand charge per kilowatt * | 0.25 | 0.60 | 0.80
Small General Service (maximum monthly demand of 25 kilowatts or less) (See Note #1)
Basic Charge per month * | 17.50 | 23.50 | 27.00
Basic Charge (Pre-Pay Meters) * | 21.00 | 28.20 | 32.40
Basic Charge (Net Meters) * | 20.00 | 28.50 | 32.00
Energy charge per kilowatt-hour * | 0.1034 | 0.1113 | 0.1136
Demand charge per kilowatt * | 0.30 | 0.75 | 1.00
General Service (monthly demand of 26-1,000 kilowatts) (See Note #1)
Basic charge per month:
Single Phase * | 32.50 | 43.50 | 50.00
Single Phase (Net Meters) * | 37.50 | 48.50 | 55.00
Three Phase * | 53.25 | 71.25 | 81.92
Three Phase (Net Meters) * | 61.50 | 79.50 | 90.17
Energy Charge per kilowatt-hour * | 0.0753 | 0.0797 | 0.0797
Demand Charge per kilowatt * ^ | 4.50 | 5.25 | 5.75
New Large Single Load (monthly demand over one megawatt) (See Note #2)
Basic Charge per month | 45.00 | 45.00 | 45.00
Energy Charge:
Each kilowatt-hour between 0-730,000 | 0.0753 | 0.0753 | 0.0753
Each kilowatt-hour over 730,000 | 0.06395 | 0.06395 | 0.06395
Demand charge ^:
Per kilowatt up to 1,000 | 4.50 | 4.50 | 4.50
Per kilowatt over 1,000 | 4.10 | 4.10 | 4.10
Area Lights
LED Light * | 10.05 | 13.43 | 15.43
Unmetered Services (See Note #3)
Basic Charge * | 17.50 | 23.50 | 27.00
Street Lighting (Metered)
Basic Charge * | 10.00 | 13.43 | 15.43
Energy Charge * | 0.1034 | 0.1113 | 0.1136
Street Lighting (Unmetered)
LED Light * | 7.20 | 9.10 | 9.55
Irrigation (See Note #4)
Basic charge per month * | 5.00 | 15.00 | 20.00
Energy charge per kilowatt hour * | 0.0712 | 0.0720 | 0.0746
Demand Charge per kilowatt * ^ | 3.00 | 5.25 | 5.75
* Notes rate categories adjusted.
^ We may apply a power factor penalty to Irrigation, General Service—Three Phase, and New Large Single Load customers.
Note #1. Residential and Small General Service customers may opt into the “Pre-Pay Meters” or “Net Meters” programs. General Service customers may opt into the “Net Meters” program. For the Pre-Pay Meters program, customers must pre-pay a minimum of $50.00 fee at time of account setup. Any prepayment is credited to the account and applied to the customer's future usage and demand charges. Pre-Pay customers are required to keep a positive balance in their account, or the meter will shut off automatically. Net Metering allows customer-owned renewable generation to interconnect with MVP's distribution system.
Note #2. Customers with monthly demand of over three megawatts will be subject to other rates, as determined by MVP on a case-by case basis, and may be required to make a deposit of two months of estimated service.
Note #3. Unmetered Services refers to customers, using kilowatt hours without a meter, that do not fall under one of MVP's other rate categories. Includes traffic lights, billboards, and telephone booths.
Note #4. Irrigation customers may receive a Bonneville Power Administration (BPA) discount for the months of May through September. BPA generally provides an irrigation discount to assist the agricultural sector in rural Northwest communities. After BPA provides MVP with the final irrigation discount rate, we will issue the discount as an annual credit on qualified irrigation customers' bills.

Consultation and Coordination With Tribal Governments (Executive Order 13175)

The Department of the Interior strives to strengthen its government-to-government relationship with Indian Tribes through a commitment to consultation with Indian Tribes and recognition of their right to self-governance and Tribal sovereignty. We have evaluated this notice under the Department's consultation policy and under the criteria of Executive Order 13175 and have determined there to be substantial direct effects on federally recognized Tribes because the electric power utilities are located on or associated with Indian reservations. To fulfill its consultation responsibility to Tribes and Tribal organizations, BIA communicates, coordinates, and consults on a continuing basis with these entities on issues of electric power delivery, electric power availability, and costs of administration, operation, maintenance, and rehabilitation of our utilities that concern them. This is accomplished at the individual power utility by utility, agency, and regional representatives, as appropriate, in accordance with local protocol and procedures. This notice is one component of our overall coordination and consultation process to provide notice to, and request comments from, these entities when we adjust electric power rates.

Actions Concerning Regulations That Significantly Affect Energy Supply, Distribution, or Use (Executive Order 13211)

The rate adjustments are not a significant energy action under the definition in Executive Order 13211. A statement of energy effects is not required.

Civil Justice Reform (Executive Order 12988)

This notice complies with the requirements of Executive Order 12988. Specifically, in issuing this notice, the Department has taken the necessary steps to eliminate drafting errors and ambiguity, minimize potential litigation, and provide a clear legal standard for affected conduct as required by section 3 of Executive Order 12988.

Regulatory Planning and Review (Executive Order 12866)

These rate adjustments are not a significant regulatory action and do not need to be reviewed by the Office of Management and Budget under Executive Order 12866, as amended by Executive Order 14094.

Regulatory Flexibility Act

These rate adjustments are not a rule for the purposes of the Regulatory Flexibility Act because they establish “a rule of particular applicability relating to rates.” 5 U.S.C. 601(2).

Takings (Executive Order 12630)

These rate adjustments do not effect a taking of private property or otherwise have “takings” implications under Executive Order 12630. The rate adjustments do not deprive the public, State, or local governments of rights or property.

Federalism (Executive Order 13132)

Under the criteria in section 1 of Executive Order 13132, these rate adjustments do not have sufficient federalism implications to warrant the preparation of a federalism summary impact statement because they will not affect the States, the relationship between the national government and the States, or the distribution of power and responsibilities among the various levels of government. A federalism summary impact statement is not required.

National Environmental Policy Act

The Department has determined that these rate adjustments do not constitute a major Federal action significantly affecting the quality of the human environment. A detailed statement under the National Environmental Policy Act of 1969 (NEPA) is not required because the rate adjustments are of an administrative, financial, legal, technical, or procedural nature (for further information see 43 CFR 46.210(i)). We have also determined that the rate adjustments would not involve any of the extraordinary circumstances listed in 43 CFR 46.215 that would require further analysis under NEPA.

Paperwork Reduction Act of 1995

These rate adjustments do not affect the collections of information which have been approved by the Office of Information and Regulatory Affairs, Office of Management and Budget (OMB) under the Paperwork Reduction Act of 1995. The OMB Control Number is 1076-0021 and expires March 31, 2026.

Unfunded Mandates Reform Act of 1995

These rate adjustments do not impose an unfunded mandate on State, local, or Tribal governments in the aggregate, or on the private sector, of more than $130 million per year. They do not have a significant or unique effect on State, local, or Tribal governments or the private sector. Therefore, the Department is not required to prepare a statement containing the information required by the Unfunded Mandates Reform Act (2 U.S.C. 1531 et seq.).

Bryan Newland,
Assistant Secretary—Indian Affairs.

[FR Doc. 2025-01043 Filed 1-15-25; 8:45 am]

BILLING CODE 4337-15-P